DEPARTMENT OF COMMERCE

Foreign-Trade Zones Board

[Order No. 1446]

Expansion of Foreign-Trade Zone 49, Newark, New Jersey, Area

Pursuant to its authority under the Foreign-Trade Zones Act of June 18, 1934, as amended (19 U.S.C. 81a-81u), the Foreign-Trade Zones Board (the Board) adopts the following Order:

Whereas, the Port Authority of New York and New Jersey, grantee of Foreign-Trade Zone 49, submitted an application to the Board for authority to expand FTZ 49 to include a new site (Site 6, 407 acres) in Kearny, New Jersey, within Newark/New York Customs port of entry (FTZ Docket 41-2005, filed 8/9/05);

Whereas, notice inviting public comment has been given in the Federal Register (70 FR 48535, 8/18/05) and the application has been processed pursuant to the FTZ Act and the Board's regulations; and,

Whereas, the Board adopts the findings and recommendations of the examiner's report, and finds that the requirements of the FTZ Act and the Board's regulations would be satisfied, and that approval of the application would be in the public interest;

Now, therefore, the Board hereby orders:

The application to expand FTZ 49 is approved, subject to the FTZ Act and the Board's regulations, including Section 400.28, and further subject to the Board's standard 2,000-acre activation limit for the overall general-purpose zone project.

Signed at Washington, DC, this 14th day of April 2006.
David M. Spooner,
Assistant Secretary of Commerce for Import Administration, Alternate Chairman, Foreign-Trade Zones Board.
Attest:
Dennis Puccinelli,
Executive Secretary.

[FR Doc. E6-6216 Filed 4-24-06; 8:45 am]

BILLING CODE 3510-DS-S